DEPARTMENT OF THE INTERIOR

National Park Service

[NPS-WASO-VRP-REGS-NPS0028086; PPWOVPADU0, POPFR2021.XZ0000 (200); OMB Control Number 1024-0026]

Agency Information Collection Activities; Special Park Use Applications

AGENCY: National Park Service, Interior.

ACTION: Notice of information collection; request for comment.

SUMMARY: In accordance with the Paperwork Reduction Act of 1995, we, the National Park Service (NPS) are proposing to renew an information collection with revisions.

DATES: Interested persons are invited to submit comments on or before February 10, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0026 in the subject line of your comments.

FOR FURTHER INFORMATION CONTACT: To request additional information about this ICR by mail contact Maggie Tyler, Special Park Uses Program Manager, 1849 C Street NW, Main Interior Building—Rm 2474, Washington, DC 20240; or by email at Maggie_tyler@nps.gov. Please reference OMB Control Number 1024-0026 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On May 28, 2019, we published a Federal Register notice soliciting comments on this collection of information for 60 days, ending on July 29, 2019 (84 FR 24538). We did not receive any public comments on this notice.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The legislative mandate of the National Park Service (we, NPS), found at 16 U.S.C. 1, is to conserve America's natural wonders unimpaired for future generations, while also making them available for the enjoyment of the visitor. Specific legal authorities governing special park uses include: 16 U.S.C. 1a; 16 U.S.C. 316; U.S.C. 3a; and 16 U.S.C. 460l-6d.

Special park uses cover a wide range of activities including, but not limited to, special events, First Amendment activities, grazing and agricultural use, commercial filming, still photography, construction and vehicle access. In accordance with regulations at 36 CFR parts 1-7, 13, 20, and 34, we issue permits for special park uses. Permits are issued for varying amounts of time based on the requested use, but generally do not exceed 5 years. A new application must be submitted in order to request the renewal of an existing permit.

The information we collect in the special use applications allows park managers to determine if the requested use is consistent with the laws and NPS regulations referenced above and with the public interest. The park manager must also determine that the requested activity will not cause unacceptable impacts to park resources and values. The NPS uses the following form to collect information:

• 10-930—Application for Special Use Permit;

• 10-930s—Application for Special Use Permit (short form);

• 10-930c -Climbing Application and Permit (New). Used to apply for a permit to climb in excess of 10,000 feet. The permit will be submitted as part of the checkout process after the trip.

• 10-931-Application for Special Use Permit—Commercial Filming/Still Photography Permit (short);

• 10-932—Application for Special Use Permit—Commercial Filming/Still Photography Permit (long); and,

• 10-933—Application for Special Use Permit—Vehicle/Watercraft Use.

With this submission, we are requesting OMB approval to use a new form under this information collection. To address the need for parks to collect information from hikers and climbers exceeding 10,000 feet of elevation, the program is requesting clearance of the NPS 10-930c “Climbing Application and Permit” to collect information associated with high elevation activities. This information includes details about the group leader, emergency contacts, climbing routes, party members, team equipment and departure and return dates.

We are estimating 80,483 responses totaling 22,872 annual burden hours. Program changes due to agency estimates and discretion results in a net increase of 46,748 responses and a net increase of 10,956 burden hours from our previous submission. The increases in both responses and burden hours includes the request for a new form (10-930c) for parks that permit climbing above 10,000 feet, and efforts to improve tracking of permits, particularly those issued for off-road vehicle use.

Title of Collection: Special Park Use Applications (portions of 36 CFR 1-7, 13, 20, and 34).

OMB Control Number: 1024-0026.

Form Number: NPS Forms 10-930, 10-930s, 10-930c, 10-931, 10-932, and, 10-933.

Type of Review: Revision of a currently approved collection.

Description of Respondents: Individuals or households; businesses or other for-profit entities; and Federal, State, local and tribal governments.

Total Estimated Number of Annual Respondents: 80,483.

Total Estimated Number of Annual Responses: 80,483.

Estimated Completion Time per Response: Forms 10-930s, 10-931 (15 minutes). Forms 10-930 and 10-930c (30 minutes).

Total Estimated Number of Annual Burden Hours: 100.

Respondent's Obligation: Required to obtain or retain a benefit.

Frequency of Collection: On occasion.

Total Estimated Annual Non-hour Burden Cost: $6,036,225 for application fees.

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2020-00165 Filed 1-8-20; 8:45 am]

BILLING CODE 4312-52-P